ENVIRONMENTAL PROTECTION AGENCY

[Docket ID Numbers OECA-2004-0040, OECA-2004-0035, OECA-2004-0042, OECA-2004-0039 and OECA-2004-0032, FRL-7812-7]

Agency Information Collection Activities: Request for Comments on Five Proposed Information Collection Requests (ICRs)

AGENCY: Environmental Protection Agency (EPA).

ACTION: Notice.

SUMMARY: In compliance with the Paperwork Reduction Act (PRA) (44 U.S.C. 3501 et seq.), this document announces that EPA is planning to submit the following five existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before November 15, 2004.

ADDRESSES: Comments may be submitted electronically, by mail, or through hand delivery/courier service. Follow the detailed instructions as provided under SUPPLEMENTARY INFORMATION, section I. B.

FOR FURTHER INFORMATION CONTACT: The contact individuals for each ICR are listed under SUPPLEMENTARY INFORMATION, section II. C.

SUPPLEMENTARY INFORMATION:

I. General Information

A. Background

Pursuant to section 3506(c)(2)(A) of the PRA, EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's standards are displayed at 40 CFR part 9.

B. Public Dockets

EPA has established official public dockets for the ICRs listed under SUPPLEMENTARY INFORMATION, section II. B. The official public docket for each ICR consists of the documents specifically referenced in the ICR, any public comments received, and other information related to each ICR. The official public docket for each ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514. An electronic version of the public docket for each ICR is available through EPA Dockets (EDOCKET) at: http://www.epa.gov/edocket. Use EDOCKET to obtain a copy of the draft collection of information, to submit or to view public comments, to access the index listing of the contents of the public docket, and to access those documents in the public docket that are available electronically. When in the system, select “search,” then key in the docket ID number identified above.

Any comments related to the listed ICRs above should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

II. ICRs To Be Renewed

A. For All ICRs

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis, as required by the Clean Air Act.

The Agency computed the burden for each of the recordkeeping and reporting requirements applicable to the industry for the currently approved Information Collection Requests (ICRs) listed in this notice. Where applicable, the Agency identified specific tasks and made assumptions, while being consistent with the concept of the Paperwork Reduction Act.

B. List of ICRs Planned To Be Submitted

In compliance with the Paperwork Reduction Act (44 U.S.C. 3501 et seq.), this notice announces that EPA is planning to submit the following five continuing Information Collection Requests (ICR) to the Office of Management and Budget (OMB):

(1) NSPS for Municipal Waste Combustors (40 CFR part 60, subpart Ea and Eb); Docket ID Number OECA-2004-0040; EPA ICR Number 1506.10; OMB Control Number 2060-0210; expiration date April 30, 2005.

(2) NESHAP for Marine Tank Vessel Loading Operations (40 CFR part 63, subpart Y); Docket ID Number OECA-2004-0035; EPA Preliminary ICR Number 1679.05; OMB Control Number 2060-0289; expiration date May 31, 2005.

(3) NESHAP for Coke Oven Batteries (40 CFR part 63, subpart L); Docket ID Number OECA-2004-0042; EPA ICR Number 1362.05; OMB Control Number 2060-0253; expiration date May 31, 2005.

(4) NESHAP for Primary Copper Smelters (40 CFR part 63, subpart QQQ); Docket ID Number OECA-2004-0039; EPA ICR Number 1850.04; OMB Control Number 2060-0476; expiration date May 31, 2005.

(5) NESHAP for Leather Finishing Operations (40 CFR part 63, subpart TTTT); Docket ID Number OECA-2004-0032; EPA ICR Number 1985.03; OMB Control Number 2060-0478; expiration date June 30, 2005.

C. Contact Individuals for ICRs

(1) NSPS for Municipal Waste Combustors (40 CFR part 60, subpart Ea and Eb); Learia Williams of the Office of Compliance at (202) 564-4113 or via e-mail to: williams.learia@epa.gov; EPA ICR Number 1505.10; OMB Control Number 2060-0210; expiration date April 30, 2005.

(2) NESHAP for Marine Tank Vessel Loading Operations (40 CFR part 63, subpart Y); Dan Chadwick of the Office of Compliance at (202) 564-7054 or via e-mail to: chadwick.dan@epa.gov; EPA ICR Number 1679.05; OMB Control Number 2060-0289; expiration date May 31, 2005.

(3) NESHAP for Coke Oven Batteries (40 CFR part 63, subpart L); Maria Malave of the Office of Compliance at (202) 564-7027 or via e-mail to: malave.maria@epa.gov; EPA ICR Number 1362.05; OMB Control Number 2060-0253; expiration date May 31, 2005.

(4) NESHAP for Primary Copper Smelters (40 CFR part 63, subpart QQQ); Learia Williams of the Office of Compliance at (202) 564-4113 or via e-mail to: williams.learia@epa.gov; EPA ICR Number 1850.04; OMB Control Number 2060-0476; expiration date May 31, 2005.

(5) NESHAP for Leather Finishing Operations (40 CFR part 63, subpart TTTT); Learia Williams of the Office of Compliance at (202) 564-4113 or via e-mail to: williams.learia@epa.gov; EPA ICR Number 1985.03; OMB Control Number 2060-0478; expiration date June 30, 2005.

D. Information for Individual ICRs

(1) NSPS for Municipal Waste Combustors (40 CFR part 60, subpart Ea and Eb); EPA Preliminary ICR Number 1506.10; OMB Control Number 2060-0210; expiration date April 30, 2005.

Affected Entities: Entities potentially affected by this action are Municipal Waste Combustor (MWC) units with combustion capacity greater than 225 megagrams per day (250 tons per day) of municipal solid waste.

Abstract: The New Source Performance Standards (NSPS) for the regulations published at 40 CFR part 60, subpart Ea and subpart Eb were proposed on December 20, 1980, and September 20, 1994 (respectively), and promulgated on February 11, 1991, and December 19, 1995 (respectively). Municipal waste combustor (MWC) facilities which commenced construction after December 20, 1989, and on or before September 20, 1994, or commenced modification or reconstruction after December 20, 1989, and on or before June 19, 1996, are subject to the regulations at 40 CFR part 60, subpart Ea. MWC facilities which commenced construction after September 20, 1994, or commenced modification or reconstruction after June 19, 1996 are subject to the regulations in 40 CFR part 60, subpart Eb.

The affected sources are subject to the General Provisions of the NSPS at 40 CFR part 60, subpart A and any changes or additions to the General Provisions specified at 40 CFR part 60, subparts Ea and Eb.

In general, all NSPS standards require initial notifications, performance tests, and periodic reports. Owners or operators are also required to maintain records of the occurrence and duration of any startup, shutdown, or malfunction in the operation of an affected facility, or any period during which the monitoring system is inoperative. These notifications, reports, and records are essential in determining compliance, and are required of all sources subject to NSPS.

Burden Statement: In the previously approved ICR, the estimated number of respondents for this information collection was eight with 50 responses per year. the annual industry reporting and recordkeeping burden for this collection of information was 11,885 hours. On average, each respondent reported seven times per year and 238 hours were spent preparing each response. The responses were prepared quarterly, semiannually and annually. The total annualized cost was $132,000, which was comprised of capital/startup costs of $60,000 and operation and maintenance costs of $72,000.

(2) NESHAP for Marine Tank Vessel Loading Operations (40 CFR part 63, supbart Y); Docket ID Number OECA-2004-0035; EPA Preliminary ICR Number 1679.05; OMB Control Number 2060-0289; expiration date May 31, 2005.

Affected Entities: Entities potentially affected by this action are marine tank vessel loading operations at marine terminals.

Abstract: The National Emission Standards for Hazardous Air Pollutants (NESHAP) for the regulations published at 40 CFR part 63, subpart Y, were proposed on May 13, 1994, and promulgated on September 19, 1995.

The affected sources are subject to the General Provisions of the NESHAP at 40 CFR part 63, subpart A and any changes or additions to the General Provisions specified at 40 CFR part 63, subpart Y. The requirements include initial notifications, performance tests, and periodic reports. Owners or operators are also required to maintain records of the occurrence and duration of any startup, shutdown, or malfunction in the operation of an affected facility, or any period during which the monitoring system is inoperative.

Burden Statement: In the previously approved ICR, approximately 105 sources were subject to the standard and 105 responses. It was anticipated that no additional sources per year would become subject to the standard over the three-year period covered by the ICR. The annual industry reporting and recordkeeping burden for this collection of information was 28,131 hours. On average, each respondent reported one time per year and 268 hours were spent preparing each response. The responses were prepared semiannually. There were no capital/startup or operations and maintenance costs since no new sources were expected over the three-year period of the ICR.

(3) NESHAP for Coke Oven Batteries (40 CFR part 63, subpart L); EPA Preliminary ICR Number 1362.05; OMB Control Number 2060-0253; expiration date May 31, 2005.

Affected Entities: Entities potentially affected by this action are rubber tire manufacturing plants.

Abstract: The National Emissions Standard for Hazardous Air Pollutants (NESHAP) for the regulations published at 40 CFR part 60, subpart L were proposed on December 4, 1992, and promulgated on October 27, 1993. These standards apply to all coke oven batteries, whether existing, new, reconstructed, rebuilt or restarted. It also applies to all batteries using the conventional by-product recovery, the nonrecovery process, or any new recovery process.

The affected sources are subject to the General Provisions of the NESHAP at 40 CFR part 63, subpart A and any changes or additions to the General Provisions specified at 40 CFR part 63, subpart L. Owners or operators of the affected facilities described must make one-time-only notifications to elect a compliance track and to certify initial compliance. Owners or operators are also required to maintain records of the occurrence and duration of any startup, shutdown, or malfunction in the operation of an affected facility, or any period during which the monitoring system is inoperative. Monitoring requirements specific to coke oven batteries provide information on the operation of the emissions control device and compliance with the visible emissions standard. Semiannual reports of compliance certifications are required. Any owner or operator subject to the provisions of this part must maintain a file of these measurements, and retain the file for at least one year following the date of such measurements, maintenance reports, and records, and must thereafter be accessible within three working days.

Burden Statement: In the previously approved ICR, the estimated number of respondents for this information collection was 25 with 58 responses per year. The annual industry reporting and recordkeeping burden for this collection of information was 104,659 hours. On average, each respondent reported two times per year and 1,804 hours were spent preparing each response. The responses were prepared semiannually. There were no capital/startup or operation and maintenance costs over the three-year period covered by the ICR.

(4) NESHAP for Primary Copper Smelters (40 CFR part 63, subpart QQQ); EPA Preliminary ICR Number 1850.04; OMB Control Number 2060-0476; expiration date May 31, 2005.

Affected Entities: Sources potentially affected by this action are primary copper smelters.

Abstract: The affected entities are subject to the General Provisions of the NESHAP at 40 CFR part 63, subpart A and any changes or additions to the General Provisions specified at 40 CFR part 63, subpart QQQ. In addition, owners and operators subject to the rule will be required to install and operate air emission controls and meet certain work practice standards. To demonstrate initial and continuous compliance with the rule requirements, affected owners and operators collect information to meet specific monitoring, inspection, recordkeeping, and reporting requirements in the final rule. Each respondent is required to submit to the EPA a one-time notification of applicability. The respondents perform an annual performance test for each control device used to comply with the standards and submit a report following the test. Between performance tests, the respondents are required to monitor selected operating parameters indicative of the control device performance and to maintain records of the monitoring results. The respondent prepares and submits semiannually.

Burden Statement: In the previously approved ICR, the estimated number of respondents for this information collection was six with 90 responses per year. The annual industry reporting and recordkeeping burden for this collection of information was 20,506 hours. On average, each respondent reported fourteen times per year and 228 hours were spent preparing each response. The total annualized cost was $98,000, which was comprised of capital/startup costs of $26,000 and operation and maintenance costs of $72,000.

(5) NESHAP for Leather Finishing Operations (40 CFR part 63, subpart TTTT); EPA Preliminary ICR Number 1985.03; OMB Control Number 2060-0478; expiration date June 30, 2005.

Affected Entities: Sources potentially affected by this action are leather finishing operations.

Abstract: The affected entities are subject to the General Provisions of the NESHAP at 40 CFR part 63, subpart A and any changes or additions to the General Provisions specified at 40 CFR part 63, subpart TTTT. Owners or operators must submit a number of notifications and reports to demonstrate compliance with NESHAP. Each existing operation that is a major source must submit an initial notification. Any leather finishing operation that starts up after the proposal date but before promulgation must submit an initial notification, similar to the one submitted by existing sources. Each new or reconstructed source that starts up after promulgation must submit a series of notifications in addition to the initial notification which includes: notification of intent to construct or reconstruct and notification of startup. Both new and existing sources must develop a plan for demonstrating compliance which specifies procedures to measure finish amounts used, hazardous air pollutant (HAP) content of finishes, and production levels for each operation. The plan for demonstrating compliance must be completed by the compliance date and kept on the site and available for inspection.

Burden Statement: In the previously approved ICR, the estimated number of respondents for this information collection was twelve with twelve responses per year. The annual industry reporting and recordkeeping burden for this collection of information was 485 hours. On average, each respondent reported one time per year and 40 hours were spent preparing each response. The responses were prepared annually. There are no capital/startup costs or operation and maintenance costs associated with continuous emission monitoring in the previous ICR.

Dated: September 1, 2004.
Lisa Lund,
Acting Director, Office of Compliance.

[FR Doc. 04-20676 Filed 9-13-04; 8:45 am]

BILLING CODE 6560-50-P